Memorandum of May 19, 2010

Designating the Chairperson of the Defense Production Act Committee

Memorandum for the Secretary of Defense [and] the Secretary of Homeland Security

Pursuant to the authority vested in me by section 722(b)(2) of the Defense Production Act of 1950, as amended (section 11 of Public Law 111-67; 50 App. U.S.C. 2171)(the “Act”), I hereby designate the Secretary of Homeland Security and the Secretary of Defense as rotating Chairpersons of the Defense Production Act Committee (the “Committee”). The Chair shall rotate annually on April 1 of each year, with the Secretary of Homeland Security hereby designated to serve as Chairperson of the Committee for the remainder of this first term. The Secretary of Homeland Security and the Secretary of Defense are directed to formalize responsibilities for funding and administratively supporting the Committee through interagency agreement.

Furthermore, the Chairperson shall invite to each meeting of the Committee all Members of the Committee as defined in section 722(b) of the Act, and shall ensure that the reporting requirements of section 722(d) of the Act are fulfilled.

The Secretary of Homeland Security is hereby authorized and directed to publish this memorandum in the Federal Register.

THE WHITE HOUSE,

Washington, May 19, 2010

[FR Doc. 2010-13659

Filed 6-4-10; 8:45 am]

Billing code 4410-10-P